DEPARTMENT OF HOMELAND SECURITY

Coast Guard

33 CFR Part 117

[Docket No. USCG-2014-0035]

Drawbridge Operation Regulations; St. Croix River, Stillwater, MN

AGENCY: Coast Guard, DHS.

ACTION: Notice of temporary deviation from regulations; cancellation.

SUMMARY: The Coast Guard is canceling the scheduled temporary deviation concerning the operating schedule for the Stillwater Highway Drawbridge across the St. Croix River, mile 23.4, at Stillwater, Minnesota, during the 2014 navigation season.

DATES: The temporary deviation published on April 14, 2014, in the Federal Register (79 FR 20784) is cancelled as of May 15, 2014.

ADDRESSES: The docket for this deviation, [USCG-2014-0035] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this cancellation, call or email Eric A. Washburn, Bridge Administrator, Western Rivers, Coast Guard; telephone (314) 269-2378, email Eric.Washburn@uscg.mil. If you have questions on viewing the docket, call Cheryl Collins, Program Manager, Docket Operations, telephone (202) 366-9826.

SUPPLEMENTARY INFORMATION:

A. Basis and Purpose

On April 14, 2014, we published a temporary deviation based on the City of Stillwater, Minnesota's request entitled “Notice of deviation from drawbridge regulation; request for comments” in the Federal Register (79 FR 20784). The temporary deviation concerned performing a functional review of drawspan operations during the navigation season by allowing the bridge to be operated on an altered opening schedule Monday through Friday (except Federal Holidays) for approximately 5 months. This deviation from the operating regulations was authorized under 33 CFR 117.35.

B. Cancellation

On April 16, 2014, a public meeting regarding this temporary deviation based on a request by the City of Stillwater was held.

After the public meeting, on April 23, 2014, the City of Stillwater rescinded their request for the temporary deviation; therefore, the Coast Guard is canceling the scheduled deviation.

Dated: May 2, 2014.
Eric A. Washburn,
Bridge Administrator, Western Rivers.

[FR Doc. 2014-11203 Filed 5-15-14; 8:45 am]

BILLING CODE 9110-04-P